DEPARTMENT OF COMMERCE

National Oceanic and Atmospheric Administration

Agency Information Collection Activities; Submission to the Office of Management and Budget (OMB) for Review and Approval; Comment Request; Marine Recreational Fishing Expenditure Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before September 30, 2024.

ADDRESSES: Interested persons are invited to submit written comments to Adrienne Thomas, NOAA PRA Officer, at NOAA.PRA@noaa.gov. Please reference OMB Control Number 0648-0693 in the subject line of your comments. All comments received are part of the public record and will generally be posted on https://www.regulations.gov without change. Do not submit Confidential Business Information or otherwise sensitive or protected information.

FOR FURTHER INFORMATION CONTACT: Requests for additional information or specific questions related to collection activities should be directed to Sabrina Lovell, Economist, Office of Science and Technology, NMFS, 1315 East West Hwy, Silver Spring, MD 20910. Tel: (301) 427-8153 or sabrina.lovell@noaa.gov.

SUPPLEMENTARY INFORMATION:

I. Abstract

This is a request for revision and extension of an approved information collection.

As specified in the Magnuson-Stevenson Fishery Conservation and Management Act of 1996 (and reauthorized in 2007), NMFS is required to enumerate the economic impacts of the policies it implements on fishing participants and coastal communities. The objective of the survey is to collect information on marine (saltwater) recreational fishing trip expenditures and durable good expenditures made by marine recreational anglers. The survey has two parts which may be conducted either jointly during the same calendar year or in separate years. The trip expenditure portion will ask anglers about the expenses incurred on their most recent marine recreational fishing trip. The durable goods portion will ask anglers about their purchases of durable goods such as fishing gear, boats, vehicles, and second homes over a 12 month period. The expenditure data collected in this regular survey is widely used by both federal, state, and non-governmental organizations for research and analysis regarding the economic importance and contributions of marine recreational fishing to each coastal state and nationwide. The program office would like to make minor changes to a few of the questions on the survey. These changes will not affect the integrity or overall purpose of said survey. The NMFS Office of Science and Technology conducts the survey and publishes the results in both technical reports and the annual `Fisheries Economics of the U.S.' report series.

II. Method of Collection

The trip expenditure portion of the survey may be conducted using in-person interviews at fishing sites or using email or mail invitations to an online web survey (with a paper version of the survey for anglers without internet access). The durable goods expenditure portion will use email or mail invitations to an online web survey (with a paper version of the survey for anglers without internet access).

III. Data

OMB Control Number: 0648-0693.

Form Number(s): None.

Type of Review: Regular submission (extension and revision of a current information collection).

Affected Public: Individuals.

Estimated Number of Respondents: 86,650: 13,350 for durable goods expenditure survey; 73,300 for trip expenditure survey.

Estimated Time per Response: Durable goods expenditure survey, 15 minutes; trip expenditure survey 5 minutes (intercept); 8 minutes (web); 15 minutes (Hawaii trip/durable combination).

Estimated Total Annual Burden Hours: 3,289

Estimated Total Annual Cost to Public: $0 in record keeping and reporting costs.

Respondent's Obligation: Voluntary.

Legal Authority: Magnuson-Stevenson Fishery Conservation and Management Act of 1996 (and reauthorized in 2007).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-16757 Filed 7-29-24; 8:45 am]

BILLING CODE 3510-22-P